GENERAL SERVICES ADMINISTRATION

Notice of Availability of the Draft Environmental Impact Statement for Improvements to the Andrade Port of Entry, Andrade, California

AGENCY: Public Buildings Service, GSA.

ACTION: Notice of Availability and Public Hearing.

SUMMARY: The General Services Administration (GSA) announces the availability of the Draft Environmental Impact Statement (EIS) for Improvements to the Andrade Port of Entry, Andrade, California, for public review and comment. The EIS provides GSA and its stakeholders an analysis of the environmental impacts resulting from ongoing operations as well as reasonable alternatives for new operations and facilities at the Andrade Port of Entry, located in southeastern California, and a potential new Port of Entry west of Yuma, Arizona.

DATES: Written comments on the Draft EIS are invited from the public and may be submitted through the end of the comment period, which ends January 9, 2006 (see ADDRESSES section for more details). Comments must be postmarked by January 9, 2006, to ensure consideration; late comments will be considered to the extent practicable. The GSA will use the comments received to help prepare the final version of the Andrade Port of Entry EIS. A public hearing on the Draft EIS will be held on Wednesday, November 16, 2005, from 3:00 pm to 6:00 pm, at the Shilo Inn, Yuma Conference Room, 1550 South Castle Dome Road, Yuma, AZ.

The hearing will provide opportunities for information exchange and discussion between GSA and the public, as well as for submitting prepared statements. For more information call (415) 522-3473.

FOR FURTHER INFORMATION CONTACT: Morris Angell, Regional Environmental Quality Advisor, GSA, 450 Golden Gate Ave., 3rd Floor E, San Francisco, CA 94102, (415)522-3473, or via e-mail to Morris.Angell@gsa.gov. Oral and written comments may also be submitted at the public hearing described in the DATES section. Requests for copies of the Draft Andrade Port of Entry EIS or other matters regarding this environmental review should be referred to Morris Angell at the address above.

SUPPLEMENTARY INFORMATION: A notice of availability will be mailed to all agencies, organizations, and individuals who participated in the scoping process or were identified during the EIS process. GSA has distributed copies of the Draft Andrade Port of Entry EIS to appropriate Congressional members and committees, the states of California and Arizona, American Indian tribal governments, local county governments, other federal agencies, and other interested parties who have already requested copies.

The Draft EIS was prepared pursuant to the National Environmental Policy Act of 1969 (NEPA) [42 U.S.C. 4321 et seq.] and the Council on Environmental Quality NEPA regulations [40 CFR part 1500]. GSA proposes to continue operating the Andrade Port of Entry, which is located in the extreme southeastern corner of California. GSA has identified and assessed five action alternatives for the operation of the Andrade Port of Entry: (1) New Facility on Current Site and Adjacent Land to West (Variants A and B), (2) New Facility on Current Site and Adjacent Land to East, (3) New Pedestrian and Vehicle Facility on the Peninsula between the Alamo Canal and the Colorado River, (4) New Facility on the Peninsula for Vehicles Only, and (5) New Facility in Arizona for Vehicles Only. In addition, GSA analyzed the No Action Alternative in which GSA would continue the status quo, that is, operate the port of entry in its current configuration, with only minor planned upgrades.

The Draft Andrade Port of Entry EIS identifies the expected environmental impacts from facility operations for each alternative, and presents comparisons of these impacts among the six alternatives. For each alternative, impact discussions are presented by resource area (e.g., land use, geology and soils) or topic area (e.g., traffic, environmental justice).

After the public comment period, which ends January 9, 2006, GSA will consider the comments received, revise the Draft EIS, select a preferred alternative, and issue a Final EIS. GSA will consider the Final EIS, along with other economic and technical considerations, to make a decision on the appropriate course for improvements at the Andrade Port of Entry.

Addresses: Comments may be submitted in writing to: Morris Angell, Regional Environmental Quality Advisor, GSA, 450 Golden Gate Ave., 3rd Floor E, San Francisco, CA 94102, or via e-mail to Morris.Angell@gsa.gov. Oral and written comments may also be submitted at the public hearing described in the DATES section. Requests for copies of the Draft Andrade Port of Entry EIS or other matters regarding this environmental review should be referred to Morris Angell at the address above.

Dated: October 27, 2005.
Peter G. Stamison,
Regional Administrator,Public Building Service,Pacific Rim Region.

Dated: October 27, 2005.
Jeffrey Neely,
Assistant Regional Administrator,Public Building Service,Pacific Rim Region.

[FR Doc. 05-22428 Filed 11-9-05; 8:45 am]

BILLING CODE 6820-YF-S